DEPARTMENT OF THE INTERIOR

National Park Service

Notice of Inventory Completion: Field Museum of Natural History, Chicago, IL

AGENCY: National Park Service, Interior.

ACTION: Notice.

Notice is here given in accordance with the Native American Graves Protection and Repatriation Act (NAGPRA), 25 U.S.C. 3003, of the completion of an inventory of human remains and associated funerary objects in the possession of the Field Museum of Natural History, Chicago, IL. The human remains and associated funerary objects were removed from Duke Island, AK.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and associated funerary objects was made by Field Museum of Natural History professional staff in consultation with representatives of the Angoon Community Association, Cape Fox Corporation, Central Council of the Tlingit & Haida Indian Tribes, Chilkat Indian Village (Klukwan), Chilkoot Indian Association (Haines), Craig Community Association, Douglas Indian Association, Hoonah Indian Association, Ketchikan Indian Corporation, Klawock Cooperative Association, Organized Village of Kake, Organized Village of Saxman, Petersburg Indian Association, Sitka Tribe of Alaska, Wrangell Cooperative Association, and Yakutat Tlingit Tribe.

In July 1897, human remains representing a minimum of one individual were removed from a grave house on Duke Island, near Old Tongass, AK, by George A. Dorsey for the Field Museum of Natural History. The 1896-1897 Annual Report of the Director to the Board of Trustees describes a four¯month trip that assistant curator of anthropology George A. Dorsey and museum photographer Edward Allen made “among the Indians of the far West,” that included a visit to the “Tlingit” tribe. The report states that a single skeleton of a shaman was secured from the Tlingit tribe. No known individual was identified. The nine associated funerary objects are a bentwood box with lid, a fringed and painted apron, a decorated and fringed leather pouch, a fringed leather pouch, an inlaid pipe, a knife, a stick, a labret, and a peg.

The human remains have been identified as Native American, based on the specific cultural and geographic attribution in Field Museum of Natural History records. The records identify the human remains as a female Tlingit shaman from “Duke Island, near Old Tongas, Alaska.” Scholarly publications and consultation information provided by the Cape Fox Corporation indicate that Duke Island is considered to be within the traditional territory of the Tongass Tlingit of southern Alaska. The Tongass Tlingit are represented by the Cape Fox Corporation.

Officials of the Field Museum of Natural History have determined that, pursuant to 25 U.S.C. 3001 (9¯10), the human remains described above represent the physical remains of one individual of Native American ancestry. Officials of the Field Museum of Natural History also have determined that, pursuant to 25 U.S.C. (3)(A), the nine objects described above are reasonably believed to have been placed with or near individual human remains at the time of death or later as part of the death rite or ceremony. Lastly, officials of the Field Museum of Natural History have determined that, pursuant to 25 U.S.C. 3001 (2), there is a relationship of shared group identity that can be reasonably traced between the Native American human remains and associated funerary objects and the Cape Fox Corporation.

Representatives of any other Indian tribe that believes itself to be culturally affiliated with the human remains and associated funerary objects should contact Helen Robbins, Repatriation Specialist, Field Museum of Natural History, 1400 S. Lake Shore Drive, Chicago, IL 60605, telephone (312) 665-7317, before May 2, 2005. Repatriation of the human remains and associated funerary objects to the Cape Fox Corporation may begin after that date if no additional claimants come forward.

The Field Museum is responsible for notifying the Angoon Community Association, Cape Fox Corporation, Central Council of the Tlingit & Haida Indian Tribes, Chilkat Indian Village (Klukwan), Chilkoot Indian Association (Haines), Craig Community Association, Douglas Indian Association, Hoonah Indian Association, Ketchikan Indian Corporation, Klawock Cooperative Association, Organized Village of Kake, Organized Village of Saxman, Petersburg Indian Association, Sitka Tribe of Alaska, Wrangell Cooperative Association, Yakutat Tlingit Tribe that this notice has been published.

Dated: February 11, 2005.
Sherry Hutt,
Manager, National NAGPRA Program.

[FR Doc. 05-6464 Filed 3-31-05; 8:45 am]

BILLING CODE 4312-50-S